DEPARTMENT OF JUSTICE

Antitrust Division

Notice Pursuant to the National Cooperative Research and Production Act of 1993—Multi Protocol Label Switching Forum

Notice is hereby given that, on May 9, 2000, pursuant to Section 6(a) of the National Cooperative Research and Production Act of 1993, 15 U.S.C. 4301 et seq. (“the Act”), Multi Protocol Label Switching Forum (“MPLS Forum”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Advanced Internet Laboratory, Fairfax, VA; Agilent Technologies, West Lothian, Scotland, United Kingdom; Amber Networks, Santa Clara, CA; Bellsouth, Atlanta, GA; Charlotte's Web, Yokneam, Israel; Crescent Networks, Chelmsford, MA; Data Connection, Enfield, Middlesex, United Kingdom; Ennovate Networks, Inc., Boxborough, MA; GlobeSpan, Woodbridge, NJ; Gotham Networks, Acton, MA; Harris & Jeffries, Dedham, MA; Integral Access, Chelmsford, MA; Inverness Systems, Marlborough, MA; Jasmine Networks, San Jose, CA; Lucent Technologies, Westford, MA; Maple Networks, San Jose, CA; Marconi Communications, Warrendale, PA; Mayan Networks, Alameda, CA; Nokia Telecommunications, Burlington, MA; Orchestream, London, United Kingdom; Pluris, Cupertino, CA; Qwest Communications, Denver, CO; Riverstone Networks, Santa Clara, CA; Telcordia Technologies, Morristown, NJ; Tenor Networks, Acton, MA; Valiant Networks, San Jose, CA; and Vivace Networks, Oldsman, FL. The nature and objectives of the venture are to promote worldwide compatibility and interoperability between different implementations of MPLS. The MPLS Forum will also help users develop strategies and evaluation criteria for deploying MPLS in their networks.

Constance K. Robinson,
Director of Operations, Antitrust Division.

[FR Doc. 00-20310 Filed 8-10-00; 8:45 am]

BILLING CODE 4410-11-M